DEPARTMENT OF THE INTERIOR

National Park Service

[NPS-WASO-NRNHL-0312-9815; 2200-3200-665]

National Register of Historic Places; Notification of Pending Nominations and Related Actions

Nominations for the following properties being considered for listing or related actions in the National Register were received by the National Park Service before March 10, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington DC 20005; or by fax, 202-371-6447. Written or faxed comments should be submitted by April 17, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

COLORADO

Douglas County

Evans Homestead Rural Historic Landscape, Address Restricted, Franktown, 12000226

MAINE

Waldo County

Mill at Freedom Falls, S. side of Mill St., 125 ft. W. of Pleasant St., Freedom, 12000228

Montville Town House, 418 Center Rd., Montville, 12000227

York County

Frisbee, Frank C., Elementary School, 120 Rogers Rd., Kittery, 12000229

Waterboro Grange, No. 432, 31 West Rd., Waterboro, 12000230

MISSOURI

Clay County

Mt. Memorial Cemetery, 500 blk. E. Mississippi St., Liberty, 12000231

Jackson County

Squier Park Historic District, (Historic Residential Suburbs in the United States, 1830-1960 MPS) Roughly bounded by Armour Blvd., The Paseo, 39th St., & Troost Ave., Kansas City, 12000232

St. Louis Independent City

Scudder Motor Truck Company Building, (Auto-Related Resources of St. Louis, Missouri MPS) 3942-62 Laclede Ave., St. Louis (Independent City), 12000233

NORTH CAROLINA

Catawba County

George, Lee & Helen, House, 16 9th Ave., NE., Hickory, 12000234

Davidson County

Chapel Hill Church Tabernacle, 1457 Chapel Hill Church Rd., Denton, 12000235

Gaston County

Downtown Mount Holly Historic District, 100 blks., N. & S. Main Sts. & W. Central Ave., Mount Holly, 12000236

Hertford County

Ahoskie Historic District, Roughly bounded by Pembroke Ave., Catherine Creek Rd., Colony, Alton, Maple, & South Sts., Ahoskie, 12000237

Iredell County

Mooresville Mill Village Historic District, Bounded by Wilson, Cauldwell, Kennette, Lutz, Messeck, & Catawba Aves., Smith & Bruce, Sts., & Shearers Rd., Mooresville, 12000238

VIRGINIA

Arlington County

Dominion Hills Historic District, (Historic Residential Suburbs in the United States, 1830-1960 MPS) Roughly bounded by N. Four Mile Run Dr., N. McKinley Rd., N. Larrimore, N. Madison, N. Montana Sts., & 9th St. N., Arlington, 12000239

A request for removal has been made for the following resource:

KENTUCKY

Jefferson County

Drumanard (Boundary Increase), 6401 Wolf Pen Branch Rd., Louisville, 88002654

[FR Doc. 2012-7749 Filed 3-30-12; 8:45 am]

BILLING CODE 4312-51-P